NATIONAL TRANSPORTATION SAFETY BOARD

Sunshine Act Meeting

Time and Date: 9:30 a.m., Tuesday, August 31, 2004.

Place: NTSB Conference Center, 429 L'Enfant Plaza SW., Washington, DC 20594.

Status: The one item is Open to the public.

Matter To Be Considered: 7654 Highway-Marine Accident Report—U.S. Towboat Robert Y. Love Allision with the I-40 Highway Bridge near Webbers Falls, Oklahoma, May 26, 2002.

New Media Contact: Telephone: (202) 314-6100.

Individuals requesting specific accommodations should contact Ms. Carolyn Dargan at (202) 314-6305 by Friday, August 27, 2004.

The public may view the meeting via a live or archived webcast by accessing a link under “News & Events” on the NTSB home page at http://www.ntsb.gov.

FOR FURTHER INFORMATION CONTACT: Vicky D'Onofrio, (202) 314-6410.

Dated: August 20, 2004.
Vicky D'Onofrio,
Federal Register Liaison Officer.

[FR Doc. 04-19504 Filed 8-23-04; 9:01 am]

BILLING CODE 7533-01-M